DEPARTMENT OF DEFENSE

Department of the Army

Availability of the Fiscal Year 2008 Army Services Contract Inventory Pursuant to Section 807 of the National Defense Authorization Act for Fiscal Year 2008

AGENCY: Department of the Army, DoD.

ACTION: Notice of publication.

SUMMARY: In accordance with section 2330a of Title 10 United States Code as amended by the National Defense Authorization Act for Fiscal Year 2008 (NDAA 08) section 807, the Assistant Secretary of the Army (Manpower and Reserve Affairs) (ASA(M&RA)), in cooperation with the Deputy Assistant Secretary of the Army (Procurement) (DASA (P)), and the Office of the Director, Defense Procurement and Acquisition Policy (DPAP) will make available to the public its inventory of activities performed pursuant to contracts for services. The inventory will be published to the ASA(M&RA) Web site at the following location: http://www.asamra.army.mil/insourcing/.

DATES: Inventory to be made publically available within September 23, 2009.

ADDRESSES: Send written comments and suggestions concerning this inventory to Dr. John Anderson, Headquarters Department of the Army, Assistant Secretary of the Army (Manpower and Reserve Affairs), Attn: Force Management Directorate (SAMR-FMMR), Army Pentagon, Washington, DC 20310. Telephone (703) 693-2119 or E-mail at John.Anderson@hqda.army.mil.

FOR FURTHER INFORMATION CONTACT: Dr. John Anderson, (703) 693-2119 or E-mail at John.Anderson@hqda.army.mil.

SUPPLEMENTARY INFORMATION: NDAA 08, section 807 amends section 2330a of Title 10 United States Code to require annual inventories and reviews of activities performed to services contracts. The Deputy Under Secretary of Defense (Acquisition and Technology) (DUSD(AT)) transmitted the Army inventory to Congress on August 4, 2009.

The ASA(M&RA) submitted the Army Fiscal Year 2008 Services Contract Inventory to the Office of the DPAP on June 24, 2009. Included with this inventory is a narrative that describes the data collection process, the inventory data, and the on-going inventory review process. A separate report is included with summary tables that list the number of contractor full time equivalents, direct labor costs and total service contract costs by organization, location, function, contract type and funding source. The report may be downloaded in electronic form (.pdf and .xlsx files) from the Web site Web site at the following location: http://www.asamra.army.mil/insourcing/. The inventory does not include contract numbers, contractor identification or other proprietary or sensitive information as this data can be used to disclose a contractor's proprietary proposal information.

An inventory of classified services contracts is not available and not published.

Jay D. Aronowitz,
Special Assistant ASA (M&RA).

[FR Doc. E9-20135 Filed 8-21-09; 8:45 am]

BILLING CODE 3710-08-P